DEPARTMENT OF ENERGY

Federal Energy Regulatory Commission

[Docket No. ER02-188-002, et al.]

Geyers Power Company, LLC, et al.; Electric Rate and Corporate Filings

October 20, 2004.

The following filings have been made with the Commission. The filings are listed in ascending order within each docket classification.

1. Geyers Power Company, LLC

[Docket Nos. ER02-188-002, ER02-236-003, ER02-407-003]

Take notice that on October 15, 2004, Geyers Power Company, LLC (Geyers Power) submitted an amendment to its September 7, 2004 refund report in Docket Nos. ER02-188-001, ER02-236-002 and ER02-407-002 in compliance with the Commission Settlement Order issued February 27, 2003.

Geyers Power states that a copy of this filing has been mailed to all the parties.

Comment Date: 5 p.m. Eastern Time on November 5, 2004.

2. KeySpan Generation LLC

[Docket No. ER04-112-003]

Take notice that, on October 18, 2004, KeySpan Generation LLC (KeySpan) submitted a compliance filing pursuant to the Commission's order issued October 1, 2004 in Docket No. ER04-112-000, 109 FERC ¶61,011.

KeySpan Generation LLC states that copies of the filing were served on parties on the official service list in the above-captioned proceeding.

Comment Date: 5 p.m. Eastern Time on November 8, 2004.

3. Midwest Independent Transmission System Operator, Inc.

[Docket Nos. ER04-691-009, EL04-104-008, ER04-106-002 ]

Take notice that on October 18, 2004, the Midwest Independent Transmission System Operator, Inc. (Midwest ISO) submitted a compliance filing pursuant to the Commission's order issued September 16, 2004, Midwest Independent Transmission System Operator, Inc., 108 FERC ¶61,236 (2004). Midwest ISO requests a waiver of the service requirements set forth in 18 CFR 385.2010.

Midwest ISO has electronically served a copy of this filing, with its attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter. Midwest ISO futher states that it will provide hard copies to any interested party upon request.

Comment Date: 5 p.m. Eastern Time on November 8, 2004.

4. ISO New England Inc.

[Docket No. ER04-749-001]

Take notice that on October 15, 2004, ISO New England Inc. (ISO) submitted changes to its Capital Funding Tariff in compliance with the May 27, 2004 order issued in Docket No. ER04-749-000.

Comment Date: 5 p.m. Eastern Time on November 5, 2004.

5. Florida Power & Light Company

[Docket No. ER04-1034-001]

Take notice that on October 15, 2004, Florida Power & Light Company (FPL) submitted a compliance filing pursuant to the Commission's September 16, 2004 Order in Docket No. ER04-1034-000 on FPL's Order No. 2003-A compliant standard large generator interconnection procedures and agreement.

FPL states that it has served a copy of this compliance filing on all parties in this proceeding.

Comment Date: 5 p.m. Eastern Time on November 5, 2004.

6. Niagara Mohawk Power Corporation

[Docket No. ER05-47-000]

Take notice that on October 15, 2004, Niagara Mohawk Power Corporation, a National Grid company (Niagara Mohawk), submitted for filing an Interconnection Service Agreement between Niagara Mohawk and Cedars Rapids Transmission Company Limited. Niagara Mohawk requests an effective date of September 17, 2004.

Niagara Mohawk states that a copy of this filing will be served upon CRT, as well as the New York Independent System Operator, Inc., and the New York Public Service Commission.

Comment Date: 5 p.m. Eastern Time on November 5, 2004.

7. Ameren Services Company

[Docket No. ER05-49-000]

Take notice that on October 15, 2004, Ameren Services Company (Ameren), on behalf of Union Electric Company dba AmerenUE and Central Illinois Public Service Company dba AmerenCIPS, submitted a revised Schedule 4A, Illinois Retail Energy Imbalance Service, to the Open Access Transmission Tariff of the Ameren Operating Companies. Ameren Operating Companies' FERC Electric Tariff, Second Revised Volume No. 1. Ameren states that it proposes to eliminate the Schedule 4A capacity charge and to reduce the Schedule 4A energy charge.

Ameren states that it has served a copy of this filing on all current customers under Schedule 4A and on the Illinois Commerce Commission and the Missouri Public Service Commission. Ameren states that it has also posted a copy of the filing on the Midwest ISO's Web site at http://www.midwestiso.org under the heading Filings to FERC and has made a copy available for public inspection in its main offices in St. Louis, Missouri.

Comment Date: 5 p.m. Eastern Time on November 5, 2004.

8. PJM Interconnection, L.L.C.

[Docket No. ER05-50-000]

Take notice that on October 15, 2004, PJM Interconnection, L.L.C. (PJM), submitted for filing an executed interconnection service agreement among PJM, PSEG Nuclear LLC, and Exelon Generation Company, LLC, and Public Service Electric and Gas Company, Atlantic City Electric Company, Delmarva Power & Light Company, and PECO Energy Company, and a notice of cancellation of an interconnection service agreement that has been superseded. PJM requests an effective date of September 16, 2004.

PJM states that copies of this filing were served upon the parties to the agreement and the state regulatory commissions within the PJM region.

Comment Date: 5 p.m. Eastern Time on November 5, 2004.

9. Quiet Light Trading, LLC

[Docket No. ER05-51-000]

Take notice that on October 15, 2004, Quiet Light Trading, LLC (QLT) petitioned the Commission for acceptance of QLT Rate Schedule FERC No. 1; the granting of certain blanket approvals, including the authority to sell electricity at market-based rates; and the waiver of certain Commission regulations.

Comment Date: 5 p.m. Eastern Time on November 5, 2004.

10. New England Power Pool

[Docket No. ER05-52-000]

Take notice that on October 15, the New England Power Pool (NEPOOL) Participants Committee and ISO New England, Inc. jointly filed the Hydro-Quebec Interconnection Capability Credit values established by NEPOOL for NEPOOL's 2005/2006 Power Year, which begins on June 1, 2005. NEPOOL requests an effective date of June 1, 2005.

NEPOOL states that copies of these materials were sent to the NEPOOL Participants and the New England state governors and regulatory commissions.

Comment Date: 5 p.m. Eastern Time on November 5, 2004.

11. Montana-Dakota Utilities Co., a Division of MDU Resources Group, Inc.

[Docket Nos. ER05-53-000, ER98-4289-003]

Take notice that on October 18, 2004, Montana-Dakota Utilities Co., a Division of MDU Resources Group, Inc. (Montana-Dakota) tendered for filing with the Commission an updated market analysis pursuant to the Commission's Order issued on October 16, 1998 authorizing market based rate authority and revisions to market-based tariff.

Montana-Dakota states that copies of the filing have been provided to the Montana Consumer Counsel, Montana Public Service Commission, North Dakota Public Service Commission, South Dakota Public Utilities Commission, and Wyoming Public Service Commission.

Comment Date: 5 p.m. Eastern Time on November 8, 2004.

12. Western Systems Power Pool, Inc.

[Docket No. ER05-54-000]

Take notice that on October 18, 2004, the Western Systems Power Pool, Inc. (WSPP) submitted a request to amend the WSPP Agreement to make clerical revisions to its membership list and to reflect the recent membership of Calpine Energy Management, L.P. (Calpine). WSPP requests an effective date of October 18, 2004.

WSPP states that copies of this filing will be electronically served upon WSPP members who have supplied email addresses for the Contract Committee and Contacts lists. WSPP also states that a copy of this filing will also be served upon Calpine. WSPP further states that this filing also has been posted on the WSPP homepage (http://www.wspp.org) thereby providing notice to all WSPP members.

Comment Date: 5 p.m. Eastern Time on November 8, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-2872 Filed 10-26-04; 8:45 am]

BILLING CODE 6717-01-P